DEPARTMENT OF VETERANS AFFAIRS

[OMB Control No. 2900-0045]

Agency Information Collection Activity: VA Request for Determination of Reasonable Value

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before September 27, 2021.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0045” in any correspondence. During the comment period, comments may be viewed online through the FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0045” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-21.

Title: VA Request for Determination of Reasonable Value (VA Forms 26-1805, and 26-1805-1).

OMB Control Number: 2900-0045.

Type of Review: Revision of a currently approved collection.

Abstract: VA utilizes Form 26-1805 (paper form) and 26-1805-1 (digital form) for lenders to request an appraisal and assign an appraiser (i.e., “ordering” an appraisal), which ultimately provides the appraiser with the authority to be on the property to conduct the appraisal (i.e., an engagement letter). This information collection request seeks to expand this data collection clearance to encompass a modernized, end-to-end appraisal management process. Under this revised ICR, VA will not only capture information from lenders around when an appraisal has been ordered (current VA Form 26-1805), but will also capture information and workflow associated with the assignment, scheduling, and review of an appraisal by VA or a lender. This new process will be consistent with the rest of the mortgage industry, and will align VA's appraisal process with the industry standard.

Affected Public: Individuals or households.

Estimated Annual Burden: 585,000 hours.

Estimated Average Burden per Respondent: 57 minutes.

Frequency of Response: One-time.

Estimated Number of Respondents: 650,000.

By direction of the Secretary.
Maribel Aponte,
VA PRA Clearance Officer, Office of Enterprise and Integration/Data Governance Analytics, Department of Veterans Affairs.

[FR Doc. 2021-15981 Filed 7-27-21; 8:45 am]

BILLING CODE 8320-01-P